DEPARTMENT OF ENERGY

Federal Energy Regulatory Commission

Combined Notice of Filings #1

Take notice that the Commission received the following electric rate filings:

Docket Numbers: ER18-1985-000.

Applicants: Invenergy Solar Development North America LLC.

Description: Request for Limited Waiver, et al. of Invenergy Solar Development North America LLC.

Filed Date: 7/9/18.

Accession Number: 20180709-5132.

Comments Due: 5 p.m. ET 7/19/18.

Docket Numbers: ER18-1991-000.

Applicants: Pennsylvania Electric Company, Jersey Central Power & Light Company, Metropolitan Edison Company, PJM Interconnection, L.L.C.

Description: § 205(d) Rate Filing: Penelec et al submit revised WASPs, Service Agreement Nos. 4221, 4222, and 4223 to be effective 9/8/2018.

Filed Date: 7/10/18.

Accession Number: 20180710-5127.

Comments Due: 5 p.m. ET 7/31/18.

Docket Numbers: ER18-1992-000.

Applicants: Forward Energy LLC.

Description: Tariff Cancellation: Notice of Cancellation of Market-Based Rate Tariff to be effective 9/10/2018.

Filed Date: 7/11/18.

Accession Number: 20180711-5000.

Comments Due: 5 p.m. ET 8/1/18.

Docket Numbers: ER18-1993-000

Applicants: PJM Interconnection, L.L.C.

Description: § 205(d) Rate Filing: Original ISA SA No. 5126; Queue No. AB1-169 to be effective 6/11/2018.

Filed Date: 7/11/18.

Accession Number: 20180711-5026.

Comments Due: 5 p.m. ET 8/1/18.

Docket Numbers: ER18-1994-000.

Applicants: Niagara Mohawk Power Corporation, New York Independent System Operator, Inc.

Description: § 205(d) Rate Filing: NYISO & National Grid—amended/restated SGIA (SA2219) with Monroe County to be effective 6/26/2018.

Filed Date: 7/11/18.

Accession Number: 20180711-5033.

Comments Due: 5 p.m. ET 8/1/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 11, 2018.
Nathaniel J. Davis, Sr.,
Deputy Secretary.

[FR Doc. 2018-15197 Filed 7-16-18; 8:45 am]

BILLING CODE 6717-01-P